DEPARTMENT OF DEFENSE

Department of the Army

Availability for Non-Exclusive, Exclusive, or Partially Exclusive Licensing of U.S. Patent Application Concerning Pulse Oximeter Sensor With a Combination Oropharyngeal Airway and Bite Block

AGENCY: U.S. Army Medical Research and Materiel Command, DoD.

ACTION: Notice.

SUMMARY: In accordance with 37 CFR 404.6, announcement is made of the availability for licensing of U.S. Patent Application Serial Number 09/389,355 entitled “Pulse Oximeter Sensor With a Combination Oropharyngeal Airway and Bite Block,” filed September 3, 1999. This patent has been assigned to the United States Government as represented by the Secretary of the Army.

ADDRESSES: Commander, U.S. Army Medical Research and Materiel Command, ATTN: Command Judge Advocate, MCMR-JA, 504 Scott Street, Fort Detrick, Frederick, Maryland 21702-5012.

FOR FURTHER INFORMATION CONTACT: Ms. Elizabeth Arwine, Patent Attorney, (301) 619-7808 or telefax (301) 619-5034.

SUPPLEMENTARY INFORMATION: A combined oropharyngeal airway/bite block having pulse oximeter sensor elements capable of monitoring the posterior pharynx, the soft palate, the hard palate, and the buccal surface. The oropharyngeal airway portion has a thickened wall to house the pulse oximeter sensor elements and provide sufficient material to form grooves in the distal end. The grooves are utilized when the invention is turned on its side to act as a bite block with the grooves engaging the teeth of the patient. The pulse oximeter sensor elements include a light source, which emits light at wavelengths of about 660 nm and about 940 nm, and a light detector. The pulse oximeter sensor elements are in communication with a spectrophotometer for analysis.

Gregory D. Showalter,
Army Federal Register Liaison Officer.

[FR Doc. 00-20566 Filed 8-11-00; 8:45 am]

BILLING CODE 3710-08-M